DEPARTMENT OF HOUSING AND URBAN DEVELOPMENT

[Docket No. FR-5545-D-03]

Redelegation of Authority to the Deputy Assistant Secretaries for Public and Indian Housing

AGENCY: Office of the Assistant Secretary for Public and Indian Housing, HUD.

ACTION: Notice of redelegation of authority.

SUMMARY: Section 7(d) of the Department of Housing and Urban Development Act, as amended, authorizes the Secretary to delegate functions, powers, and duties as the Secretary deems necessary. By separate notice published in today's Federal Register, the Secretary delegates to the Assistant Secretary for Public and Indian Housing and the General Deputy Assistant Secretary for Public and Indian Housing authority for the administration of certain Public and Indian Housing (PIH) programs, and authorizes the Assistant Secretary to further redelegate such authority. In this consolidated redelegation of authority the Assistant Secretary for PIH redelegates to the PIH Deputy Assistant Secretaries authority for the administration of certain PIH programs.

DATES: Effective Date: July 15, 2011.

FOR FURTHER INFORMATION CONTACT: Linda Bronsdon, AICP, Program Analyst, Office of Policy, Program and Legislative Initiatives, Office of Public and Indian Housing, Department of Housing and Urban Development, 490 L'Enfant Plaza, Suite 2206, Washington, DC 20024, e-mail address, Linda.K.Bronsdon@hud.gov, telephone number 202-402-3494. (This is not a toll-free number.) This number may be accessed through TTY by calling the toll-free Federal Relay Service at telephone number 1-800-877-8339.

SUPPLEMENTARY INFORMATION: By separate notice published in today's Federal Register, the Secretary delegates to the Assistant Secretary for Public and Indian Housing and the General Deputy Assistant Secretary for Public and Indian Housing authority for the administration of certain PIH programs, and authorizes the Assistant Secretary to further redelegate such authority. In this consolidated redelegation of authority, the Assistant Secretary for PIH redelegates, through the General Deputy Assistant Secretary for PIH, to the Deputy Assistant Secretaries authority for the administration of certain PIH programs. All previous delegations of authority from the Assistant Secretary for PIH to PIH's Deputy Assistant Secretaries are hereby revoked and superseded by this consolidated redelegation of authority, including the redelegation of authority from the PIH General Deputy Assistant Secretary to PIH's Deputy Assistant Secretaries published on January 13, 2009 (74 FR 1704). This consolidated redelegation of authority implements, in part, the Department's Strategic Plan to transform the way HUD does business.

Section A. Authority Redelegated

The Assistant Secretary for PIH hereby redelegates, through the General Deputy Assistant Secretary for PIH, to Deputy Assistant Secretaries for PIH the following authorities:

1. Programs under the jurisdiction of the Secretary carried out pursuant to the authority transferred from the Public Housing Administration under section 5(a) of the Department of Housing and Urban Development Act (42 U.S.C. 3534) as amended;

2. Each program of the Department authorized pursuant to the United States Housing Act of 1937 (1937 Act) (42 U.S.C. 1437 et seq.) as amended, including but not limited to the Public Housing Program, Section 8 Programs (except the following Section 8 Project-Based Programs: New Construction, Substantial Rehabilitation, Loan Management Set-Aside and Property Disposition) and predecessor programs that are no longer funded but have ongoing commitments;

3. PIH programs for which assistance is provided for or on behalf of public housing agencies (PHAs), public housing residents or other low-income households; and

4. PIH programs for which assistance is provided for or on behalf of Native Americans, Indian Tribes, Alaska Native Villages, Native Hawaiians, tribal entities, tribally designated housing entities, or tribal housing resident organizations, as further described in Section H.

Section B. Authority Excepted

The redelegation of authority to a Deputy Assistant Secretary does not include any authority under law specifically requiring the action of the Secretary of HUD, Assistant Secretary of PIH, or the General Deputy Assistant Secretary for PIH. Authority excepted includes authority to:

1. Issue or waive regulations, including waivers pursuant to 24 CFR 982.161(c), which permits HUD field offices to act on waivers of conflict of interests. Public Housing Field Office Directors are not to exercise this authority;

2. Issue notices to clarify regulations;

3. Issue notices of funding availability (NOFAs), handbooks, notices and other HUD policy directives; and

4. Waive any provision of an Annual Contributions Contract (ACC) including a determination of substantial breach or default in response to any violation of statute or regulations;

5. Impose remedies for substantial noncompliance with the requirements of the Native American Housing Assistance and Self-Determination Act of 1996 (NAHASDA) (25 U.S.C. 4101 et seq.) and/or it's implementing regulations;

6. Declare a failure to comply with the regulations of the Community Development Block Grants for Indian Tribes and Alaska Native Villages;

7. Execute Moving to Work agreements or amendments thereto; and

8. Issue limited denials of participation (LDP).

Section C. Authority To Further Redelegate

In accordance with a written redelegation of authority, a Deputy Assistant Secretary may further redelegate specific authority to PIH Directors or to other ranking PIH program officials. Redelegated authority to PIH Directors or other ranking PIH program officials does not supersede the authority of a Deputy Assistant Secretary as designee of the Assistant Secretary for PIH.

Section D. Exceptions to Authority To Further Redelegate

Authority redelegated from a Deputy Assistant Secretary to PIH Directors or other ranking PIH program officials is limited. Excepted power and authority, meaning authority that may not be further redelegated by a Deputy Assistant Secretary, includes authority to:

1. Offer new legislative proposals to Congress;

2. Allocate or reallocate funding among field offices;

3. Approve remedies for noncompliance requiring notice and opportunity for administrative hearing;

4. Issue a Notice of Intent to Impose Remedies under the Indian Housing Block Grant Program, Native Hawaiian Housing Block Grant Program, or Community Development Block Grant Program for Indian Tribes and Alaska Native Villages;

5. Waive provisions or instructions of PIH directives relating to the obligation or payment of operating subsidies;

6. Solicit competitive proposals for the management of all or part of public housing administered by a PHA;

7. Approve special rent adjustments;

8. Conduct tax credit and/or subsidy layering reviews, unless specifically or otherwise noted;

9. Approve PHA requests for exception payment standards that exceed 120 percent of the fair market rent (FMR); and

10. Approve grant extensions, unless specifically or otherwise noted.

Section E. Redelegation of Authority Concerning the Office of Public Housing and Vouchers

The Assistant Secretary for PIH hereby redelegates, through the General Deputy Assistant Secretary for PIH, to the Deputy Assistant Secretary for the Office of Public Housing and Vouchers (OPHV) administrative, oversight and enforcement responsibilities and the authority to:

1. Administer the rental voucher assistance programs under section 8 of the 1937 Act (42 U.S.C. 1437f), including the section 8 Family Self-Sufficiency (FSS) program and section 8 Management Assessment Program (SEMAP);

2. Establish targeting and eligibility for participation in the Housing Choice Voucher (HCV) programs pursuant to section 8(o)(3) of the 1937 Act;

3. Determine payment standards for subsidy amounts by program participants pursuant to sections 8(o)(1)(B), (D), and (E) 1937 Act;

4. Develop program requirements for tenant rent and maximum rent burdens pursuant to sections 8(o)(2)(A) and 8(o)(2)(B)) and section 8(o)(3) 1937 Act, respectively;

5. Set guidance regarding violent criminal activity on or near premises and implement the statutory grounds for termination of tenancy pursuant to section 8(o)(7)(D) 1937 Act;

6. Administer tenant-based and project-based voucher assistance under section 8(o) 1937 Act;

7. Administer homeownership voucher assistance under section 8(y) 1937 Act as amended by the American Homeownership and Economic Opportunity Act of 2000 (Pub. L. 106-569) (42 U.S.C. 1437f(y); and

8. Administer enhanced voucher assistance under section 8(t) 1937 Act.

Section F. Redelegation of Authority Concerning the Office of Public Housing Investments

The Assistant Secretary for PIH hereby redelegates authority, through the General Deputy Assistant Secretary for PIH, to the Deputy Assistant Secretary for the Office of Public Housing Investments (OPHI) to perform administrative, oversight and enforcement responsibilities and authority for:

1. Public Housing Capital Fund pursuant to section 9 of the 1937 Act, including but not limited to, approvals of proposals submitted under the Capital Fund Financing Program (CFFP) or the Operating Fund Financing Program (OFFP) under section 9(e) of the 1937 Act, with OFFP approvals subject to coordination and consultation with PIH's Real Estate Assessment Center;

2. Required conversions pursuant to section 33, voluntary conversions pursuant to section 22, and mandatory conversions pursuant to section 202 of the 1937 Act (section 202 is repealed but continues to apply to identified and non-appealed public housing developments subject to mandatory conversion until all requirements are satisfied);

3. Resident Opportunities and Self-Sufficiency (ROSS) program pursuant to the Quality Housing and Work Responsibility Act of 1998 (QHWRA), including grant extensions for the expenditure of these funds;

4. Public Housing Neighborhood Networks (NN) program pursuant to section 9 of the 1937 Act;

5. HOPE VI Program pursuant to section 24 of the 1937 Act and Appropriation Acts, including grant extensions and issuance of defaults of HOPE VI grant agreements;

6. Choice Neighborhoods program pursuant to the FY 2010 Consolidated Appropriations Act, Division A, Title II (Pub. L. 111-117, approved December 16, 2009) and any future appropriations or authority enacted for the Choice Neighborhood Program in consultation and coordination with the Office of Housing's Multifamily Housing Programs;

7. Public Housing mortgages and security interests pursuant to section 30 of the 1937 Act, and approvals of proposals submitted thereto;

8. Mixed finance transactions, including approvals of proposals submitted thereto, pursuant to section 35 of the 1937 Act;

9. Moving to Work (MTW) demonstration program pursuant to section 204 of the Omnibus Consolidated Rescissions and Appropriations Act of 1996 including approvals of MTW annual plans and issuance of defaults of MTW agreements;

10. Demolition or disposition applications pursuant to section 18 of the 1937 Act and the implementing regulations at 24 CFR part 970;

11. Agreements for the taking of public housing property in eminent domain proceedings;

12. Homeownership programs pursuant to section 32 of the 1937 Act and including amendments under previously approved 5(h) and Turnkey III homeownership plans; and

13. Execute amendments to ACCs regarding provisions for under the Capital Fund Program and/or coordinate such executions with field offices.

Section G. Redelegation of Authority Concerning the Office of Field Operations

The Assistant Secretary for PIH hereby redelegates authority, through the General Deputy Assistant Secretary for PIH, to the Deputy Assistant Secretary for the Office of Field Operations (OFO) to perform administrative, oversight and enforcement responsibilities of receiverships, regional, hub and field operations for redelegated authority under section A and the following specific authority for further redelegation:

1. ACC amendments for annual grants under the Capital Fund Program, but excluding the waiver of ACC provisions;

2. Execution of ACC amendments or releases of Declarations of Trust (DOTs) for Capital Fund Financing or mixed finance transactions when requested pursuant to an approval letter by the Deputy Assistant Secretary for the Office of Public Housing Investments.

3. Release of DOTs pursuant to a section 18 approval;

4. Coordination with the respective program office to address specific programs including Family Self Sufficiency (FSS), Resident Opportunities and Supportive Services (ROSS), Family Unification, HOPE for Elderly Independence and Service Coordinators, HUD-Veterans Administration Supportive Housing, and Moving to Opportunity and Moving to Work;

5. Concurrent approval authority for energy performance contracts (EPC) (EPCs may be approved in the Field Offices or in Headquarters);

6. Actions associated with the renewal of designated housing plans;

7. Execution of letters of support and correspondence with local congressional offices for programs, projects and ventures within the appropriate region;

8. Approval of requests by PHAs to change their fiscal year end (FYE) subject to coordination with the Real Estate Assessment Center (REAC) for PHAs with public housing units and with the Financial Management Division of the Housing Choice Vouchers program for vouchers-only PHAs;

9. Coordination of audit responses through PIH's Audit Liaison Officer on reports by the United States General Accounting Office and through PIH's Action Official (AO) for reports by HUD's Office of Inspector General; and

10. Approval of grant extensions under the Public Housing Family Self-Sufficiency (PH-FSS) and Resident Opportunities Self Sufficiency (ROSS) programs. Such grant extensions may be made at the field level for any length of time deemed reasonable by the Public Housing Director or designee; denials of FSS and ROSS extensions remain with the Deputy Assistant Secretary of the Office of Public Housing Investments.

Section H. Redelegations of Authority Concerning the Office of Native American Programs

The Assistant Secretary for PIH hereby redelegates authority, through the General Deputy Assistant Secretary for PIH, to the Deputy Assistant Secretary for the Office of Native American Programs to perform program administration, oversight and enforcement responsibilities associated with the following:

1. Programs authorized pursuant to the Native American Housing Assistance and Self-Determination Act of 1996 (25 U.S.C. 4101 et seq.), as amended;

2. The Community Development Block Grant Program for Indian Tribes and Alaska Native Villages authorized by section 106 of the Housing and Community Development Act of 1974 (42 U.S.C. 5306);

3. The Indian Home Loan Guarantee Program authorized by section 184 of the Housing and Community Development Act of 1992 (12 U.S.C. 1715z-13a);

4. The Native Hawaiian Loan Guarantee Fund authorized by section 184A of the Housing and Community Development Act of 1992 (12 U.S.C. 1715z-13b); and

5. Grants awarded to Indian tribes and tribal entities by the Assistant Secretary for Community Planning and Development under the Rural Innovation Fund Program, and under the Rural Housing and Economic Development Program; and

6. Coordination of audit responses through PIH's Audit Liaison Officer on reports by the U.S. General Accounting Office and through PIH's AO for reports by HUD's Office of Inspector General.

Section I. Redelegation of Authority Concerning the Real Estate Assessment Center

The Assistant Secretary for PIH hereby redelegates authority, through the General Deputy Assistant Secretary for PIH, to the Deputy Assistant Secretary for the Real Estate Assessment Center to perform program administration, oversight and enforcement responsibilities associated with the Public Housing Operating Fund, as the annual subsidy to PHAs for operations and management pursuant to section 9(e) of the 1937 Act (42 U.S.C. 1437g(e)) and regulations at 24 CFR part 990.

Section J. Redelegation of Authority Concerning the Office of Policy, Program and Legislative Initiatives

The Assistant Secretary for PIH hereby redelegates authority, through the General Deputy Assistant Secretary for PIH, to the Deputy Assistant Secretary for the Office of Policy, Program and Legislative Initiatives to perform administration and oversight responsibilities associated with policy analysis, research, actions by Congress, Executive Orders, rulemaking and directives management on behalf of the Assistant Secretary for PIH, including redelegated authority to execute certain clearance and administrative records on behalf of the Assistant Secretary for PIH.

Section K. Authority Superseded

All previous redelegations of authority from the Assistant Secretary for PIH to the PIH Deputy Assistant Secretaries are hereby revoked and superseded by this consolidated redelegation of authority, including the PIH redelegation published on January 13, 2009 (74 FR 1704) and the “Delegation of Authority to the Deputy Assistant Secretary for the Office of Public Housing Investments” published on December 6, 2006 (71 FR 70783).

Section L. Actions Ratified

The Assistant Secretary for PIH hereby ratifies all actions previously taken by PIH Deputy Assistant Secretaries under any previous redelegation of authority through the effective date of this redelegation, with respect to programs and matters listed in this redelegation of authority. Any previous actions ratified, remain ratified.

Section M. Consultation and Coordination With the General Counsel

The General Counsel shall consult and advise the Assistant Secretary for PIH, the General Deputy Assistant Secretary, and Deputy Assistant Secretaries as required and when requested and shall enter into such protocols as administratively agreed to by the General Counsel and the Assistant Secretary for PIH or the General Deputy Assistant Secretary. This consolidated delegation of authority is to be exercised consistently with the delegation from the Secretary to the General Counsel.

Authority: Section 7 (d) of the Department of Housing and Urban Development Act, as amended, (42 U.S.C. 3535(d).

Dated: July 15, 2011.
Sandra B. Henriquez,
Assistant Secretary for Public and Indian Housing.

[FR Doc. 2011-19728 Filed 8-3-11; 8:45 am]

BILLING CODE 4210-67-P